GENERAL SERVICES ADMINISTRATION

Peace Arch Port of Entry, Blaine, Washington, Draft Environmental Impact Statement

AGENCY: Public Buildings Service, General Services Administration (GSA).

ACTION: Notice of availability.

SUMMARY: The US General Services Administration (GSA) hereby gives notice that it has prepared and is distributing a Draft Environmental Impact Statement (DEIS) pursuant to the requirements of the National Environmental Policy Act (NEPA) of 1969, and the President’s Council on Environmental Quality Regulations, for the construction of a new Peace Arch Port of Entry facility in the City of Blaine, Whatcom County, Washington. This project is at the planning and design stage, and site acquisition funding has been approved by Congress.

The US Dept of Homeland Security is currently located in the existing Peace Arch Port of Entry facility. The existing facility does not currently meet the tenant agencies space or mission requirements. The existing facility cannot be adapted to accommodate the required future space needs of the agency tenants. GSA, assisted by Herrera Environmental Consultants, will prepare the Environmental Impact Statement (EIS). GSA is the lead agency in conducting the NEPA study with US Department of Transportation - Federal Highways Administration and Washington State Department of Transportation serving as cooperating agencies. GSA invites interested individuals, organizations, and federal, state, and local agencies to participate in defining and identifying any significant impacts and issues to be studied in the EIS.

DATES: Interested parties should submit comments in writing on or before January 17, 2006 to be considered in the formulation of the final rule.

ADDRESSES: Submit comments to U.S. General Services Administration, Regional Environmental Program Analyst (10PTTB), 400 - 15th Street SW, Auburn, WA 98001, ATTN: Michael Levine.

FOR FURTHER INFORMATION CONTACT: Art Campbell at Herrera Environmental Consultants at (206) 441-9080, 2200 Sixth Ave, Suite 1100, Seattle, WA 98121, or Michael Levine, Regional Environmental Program Analyst, GSA, at (253)931-7263.

Mailing List: If you wish to be placed on the project mailing list to receive further information as the EIS process develops, contact Art Campbell at the address and telephone number noted above.

Purpose:

On November 30, 2004, a third public NEPA scoping meeting was held to gather comments from the public. On December 8, 2005 at 6:00pm, an informal open house will be held to inform the public about the status of the project and to answer any questions. On December 13, 2005 at 6:00pm, an official NEPA DEIS public comment meeting will be held to ensure that the public has an opportunity to give comments about the DEIS that will become part of the official record. A court stenographer will transcribe all comments. Both meetings will be held at the Blaine Community Senior Center, 763 G Street in Blaine, WA. With the printing of this Notice of Availability in the Federal Register, the 45 day NEPA DEIS comment period begins. The notice of the dates of the informal open house meeting and formal comment meeting will be accomplished through direct mailing correspondence to interested persons, agencies, tribes and organizations, and notices in local newspapers.

The DEIS will evaluate the proposed project, including all reasonable alternatives identified through the scoping process and a no-action alternative. GSA will respond to all relevant comments to the draft EIS received during the 45-day public comment period and they will become part of the Final Environmental Impact Statement (FEIS). With the release to the public of the FEIS, GSA will identify its preferred alternative.

An additional public informal comment meeting will be held after the release of the Final Environmental Impact Statement. After a minimum 30-day period following publication of the Final Environmental Impact Statement, GSA will issue a Record of Decision (ROD) that will identify all alternatives considered by GSA in reaching its decision, specifying the alternative which is environmental preferable. GSA may discuss preferences among alternatives based on relevant factors including economic and technical considerations and agency statutory missions. GSA shall identify and discuss all such factors including any essential considerations of national policy which is balanced by GSA in making its decision and state how those considerations entered into its decision.

Supplemental Information:

GSA invites interested individuals, organizations, and federal, state, and local agencies to participate in defining and identifying any significant impacts and issues to be studied in the EIS. The EIS will examine the short and long-term impacts on the natural and physical environment. The assessment will include but not be limited to impacts such as social environment, changes in land use, aesthetics, changes in adjacent park land, changes in traffic patterns and access to the “D” street intersection, economic impacts, and consideration of City planning and zoning requirements. The EIS will examine measures to mitigate significant adverse impacts resulting from the proposed action. Concurrent with NEPA implementation, GSA will also implement its consultation responsibilities under Section 106 of the National Historic Preservation Act to identify potential impacts to existing historic or cultural resources. GSA will consult with Native American tribes through-out the NEPA process.

The EIS will consider a no-action alternative and action alternatives. The no-action alternative would continue the occupancy in the existing Peace Arch Port of Entry facility in Blaine. The action alternatives will consist of three different configurations for construction of a new port of Entry facility.

Dated: 11/18/2005.
William L. DuBray,
Executive Director, Region 10.

[FR Doc. 05-23522 Filed 11-30-05; 8:45 am]

BILLING CODE 6820-EP-S